DEPARTMENT OF DEFENSE

Department of the Air Force

HQ USAF Scientific Advisory Board

AGENCY: Department of the Air Force, DoD.

ACTION: Notice of meeting.

SUMMARY: Pursuant to Pub. L. 92-463, notice is hereby given of the forthcoming meeting of the 2003 S&T Review and the Chief of Staff and Secretary of the Air Force. The purpose of the meeting is to allow the SAB leadership to advise the Air Force leadership on the outcome of the 2003 Review. Because classified and contractor-proprietary information will be discussed, this meeting will be closed to the public.

DATES: February 20, 2003.

ADDRESSES: Room 4E869, The Pentagon.

FOR FURTHER INFORMATION CONTACT: Maj John Pernot, Air Force Scientific Advisory Board Secretariat, 1180 Air Force Pentagon, Rm 5D982, Washington DC 20330-1180, (703) 697-4811.

Pamela D. Fitzgerald,
Air Force Federal Register Liaison Officer.

[FR Doc. 03-3638 Filed 2-12-03; 8:45 am]

BILLING CODE 5001-05-U